DEPARTMENT OF COMMERCE

National Oceanic and Atmospheric Administration

[RTID 0648-XC315]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a three-day in-person meeting of its Standing, Reef Fish, Socioeconomic, and Ecosystem Scientific and Statistical Committees (SSC).

DATES: The meeting will be held Wednesday, September 21 through Friday, September 23, 2022. Meeting times are scheduled as follows: Wednesday, from 1 p.m. to 5 p.m.; Thursday, from 9 a.m. to 5 p.m.; and Friday, from 9 a.m. to 12 noon, EDT.

ADDRESSES: The meeting will take place at the Gulf Council office. If you are unable to attend in-person, the public may listen-in to the meeting via webinar. Registration information will be available on the Council's website by visiting www.gulfcouncil.org and clicking on the “meeting tab”.

Council address: Gulf of Mexico Fishery Management Council, 4107 W Spruce Street, Suite 200, Tampa, FL 33607; telephone: (813) 348-1630.

FOR FURTHER INFORMATION CONTACT: Mr. Ryan Rindone, Lead Fishery Biologist, Gulf of Mexico Fishery Management Council; ryan.rindone@gulfcouncil.org, telephone: (813) 348-1630.

SUPPLEMENTARY INFORMATION:

Wednesday, September 21, 2022; 1 p.m.-5 p.m., EDT

The meeting will begin with Introductions and Adoption of Agenda, Approval of Verbatim Minutes and Meeting Summary from the July 7-8, 2022, meeting, and review of Scope of Work. The Committees will select an SSC Representative for the October 24-27, 2022, Gulf Council Meeting. Following, the Committees will review a presentation and report on the Socioeconomic Stock Assessment Workshop Report, including other background materials for SSC discussion. The Committees will then review the Essential Fish Habitat Dashboard, including background material and discussion. Public comment will be heard at the end of the day.

Thursday, September 22, 2022; 9 a.m.-5 p.m., EDT

The Committees will receive presentations on Alternative Practicable Approaches to Sector Allocation Determinations, and the SEDAR 68 Operational Assessment for Gulf of Mexico Scamp, including background materials and SSC discussion; and will receive public comment at the end of the day, if any.

Friday, September 23, 2022; 9 a.m.-1 p.m., EDT

The Committees will review and discuss the Scopes of Work for 2024's Operational Assessments of Lane Snapper, Gag Grouper and Gulf King Mackerel, including background materials. Following, the Committees will review Updated Projections for Gulf of Mexico Gag Grouper using the State Reef Fish Survey (SRFS), including a presentation, background materials and SSC discussion.

Lastly, the Committees will receive public comment before addressing any items under Other Business.

Meeting Adjourns

The meeting will be also be broadcast via webinar. You may register for the webinar by visiting www.gulfcouncil.org and clicking on the SSC meeting on the calendar.

The Agenda is subject to change, and the latest version along with other meeting materials will be posted on www.gulfcouncil.org as they become available.

Although other non-emergency issues not on the agenda may come before the Scientific and Statistical Committees for discussion, in accordance with the Magnuson-Stevens Fishery Conservation and Management Act, those issues may not be the subject of formal action during these meetings. Actions of the Scientific and Statistical Committee will be restricted to those issues specifically identified in the agenda and any issues arising after publication of this notice that require emergency action under section 305(c) of the Magnuson-Stevens Fishery Conservation and Management Act, provided the public has been notified of the Council's intent to take-action to address the emergency.

Special Accommodations

These meetings are physically accessible to people with disabilities. Requests for sign language interpretation or other auxiliary aid should be directed to Kathy Pereira, (813) 348-1630, at least 5 days prior to the meeting date.

Authority: 16 U.S.C. 1801 et seq.

Dated: August 25, 2022.
Rey Israel Marquez,
Acting Deputy Director, Office of Sustainable Fisheries, National Marine Fisheries Service.

[FR Doc. 2022-18697 Filed 8-29-22; 8:45 am]

BILLING CODE 3510-22-P